DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 26, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: Assessment of Administrative Costs of Electronic Healthy Incentives Projects.

OMB Control Number: 0584-NEW.

Summary of Collection: The U.S. Department of Agriculture's (USDA) Food and Nutrition Service (FNS) is authorized to collect data under Section 17 of the Food and Nutrition Act of 2008, which authorizes the Secretary of Agriculture to contract with private institutions to undertake research that will help improve the administration and effectiveness of the Supplemental Nutrition Assistance Program (SNAP) in delivering nutrition-related benefits.

The Supplemental Nutrition Assistance Program (SNAP), administered by the United States Department of Agriculture (USDA), Food and Nutrition Service (FNS), distributes benefits to eligible low-income households through Electronic Benefits Transfer (EBT) card technology.

In Fiscal Year 2023 FNS awarded grants to three States, Colorado, Louisianna, and Washington for implementing Electronic Healthy Incentives Projects (eHIP) to leverage EBT integration to deliver financial incentives at point of purchase to SNAP households when they purchase qualifying foods (e.g., fruits and vegetables).

Need and Use of the Information: The aim of this study is to calculate the costs of eHIP in the three States to determine the startup and ongoing costs of administering incentives to SNAP households through EBT integration and to estimate the cost of administering eHIP at scale. The study will quantify startup and ongoing administrative costs to State grantees, retailers, and other eHIP stakeholders. It will also compare administrative costs to the amount of funding distributed as incentives. In addition, existing national data (such as SNAP caseloads and SNAP-authorized retailers) and State data from non-project States (such as State wage rates) will be examined in order to estimate the cost of nationwide expansion of eHIP. Lastly, data from select Gus Schumacher Nutrition Incentive Program (GusNIP) grantees—that do not use EBT integration for delivering incentives to SNAP households for purchasing fruits and vegetables will be examined to estimate the costs and return on investment (ROI) of GusNIP and compare these to the eHIP costs and ROI, in order to provide information on how these two incentive delivery modalities differ in costs and economic impact.

Description of Respondents: State, Local and Tribal Governments, Businesses.

Number of Respondents: 50.

Frequency of Responses: Reporting: Once.

Total Burden Hours: 198.48.

Rachelle Ragland-Greene,
Departmental Information Collection Clearance Officer.

[FR Doc. 2024-27582 Filed 11-22-24; 8:45 am]

BILLING CODE 3410-30-P